ENVIRONMENTAL PROTECTION AGENCY

[FRL-9299-2]

Science Advisory Board Staff Office Request for Nominations of Candidates for a SAB Panel on Accounting for Carbon Dioxide (CO2) Emissions From Biogenic Sources

AGENCY: Environmental Protection Agency (EPA).

ACTION: Notice.

SUMMARY: The U.S. Environmental Protection Agency (EPA or Agency) Science Advisory Board (SAB) Staff Office is soliciting nominations of nationally and internationally recognized scientists for an SAB Expert Panel to provide independent advice to EPA on a draft greenhouse gas accounting methodology for biogenic carbon dioxide (CO2) emissions from stationary sources.

DATES: Nominations should be submitted by May 18, 2011 per the instructions below.

FOR FURTHER INFORMATION CONTACT: For information regarding this Request for Nominations, please contact Dr. Holly Stallworth, Designated Federal Officer (DFO), EPA Science Advisory Board Staff, at stallworth.holly@epa.gov or (202) 564-2073. General information concerning the SAB can be found on the SAB Web site at http://www.epa.gov/sab. Any inquiry regarding EPA's draft greenhouse gas accounting methodology for biogenic carbon dioxide (CO2) emissions should be directed to Dr. Jennifer Jenkins, Office of Air and Radiation, Office of Atmospheric Programs, Climate Change Division at jenkins.jennifer@epa.gov or (202) 343-9361.

SUPPLEMENTARY INFORMATION Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App.2. EPA's Office of Air and Radiation has requested the EPA Science Advisory Board to conduct a review of the scientific and technical issues associated with a draft assessment of methodologies for accounting for CO2 emissions from biogenic sources. Biogenic CO2 emissions are defined as emissions of CO2 from a stationary source directly resulting from the combustion or decomposition of biologically-based materials other than fossil fuels.

On December 23, 2010, the U.S. Environmental Protection Agency (EPA) issued a series of rules that put the necessary regulatory framework in place to ensure that (1) industrial facilities can get Clean Air Act permits covering their greenhouse gas (GHG) emissions when needed and (2) facilities emitting GHGs at levels below those established in the Tailoring Rule do not need to obtain federal Clean Air Act permits. In the Tailoring Rule, EPA did not take action on a request from some commenters to exclude biogenic carbon dioxide (CO2) emissions. On January 12, 2011, through a letter from the Assistant Administrator for EPA's Office of Air and Radiation to the National Alliance of Forest Owners (NAFO) [http://www.epa.gov/nsr/ghgdocs/McCarthytoMartella.pdf], EPA announced it was going to take a series of steps to address the treatment of biogenic CO2 emissions from stationary sources, including deferring for three years the application of the PSD and Title V permitting requirements to biogenic CO2 emissions (proposed March 21, 2011, 76 FR 15249), and a detailed study of the scientific and technical issues associated with accounting for biogenic CO2 emissions from stationary sources.

This EPA study will include a review of the technical information, and it will also include the development of accounting options for biogenic CO2 emissions from stationary sources. EPA's review of technical information will include an assessment of the accounting approaches described in EPA's proposed “Deferral for CO2 Emissions from Bioenergy and Other Biogenic Sources under the Prevention of Significant Deterioration (PSD) and Title V Programs” (76 FR 15249). The four broad types of accounting approaches are: case-by-case analysis of individual source-specific permit applications; categorical exclusion of biogenic CO2 emissions from PSD permitting; exclusion of biogenic CO2 emissions from PSD permitting contingent upon the U.S. land-use sector's remaining a “net sink”; and differential treatment of feedstock via approaches reflecting feedstock-specific attributes. Following this review, EPA plans to develop a set of appropriate accounting procedures, taking into account the approaches outlined above (i.e., the range of broad types of options from case by case analysis to categorical exclusion) for biogenic CO2 emissions that satisfy the principles of predictability, practicality, and scientific soundness.

The SAB thus will serve as the “independent scientific panel” cited in the January 2011 letter and March 2011 proposed deferral. The SAB Panel will conduct an independent review of the scientific and technical issues associated with EPA's assessment of accounting methodologies for biogenic CO2 emissions. The public will have opportunities to provide comments for the SAB consideration.

Information on EPA actions related to biogenic carbon dioxide (CO2) emissions from stationary sources may be found at http://www.epa.gov/climatechange/emissions/biogenic_emissions.html and http://www.epa.gov/NSR/actions.htm1#mar11.

Expertise Sought: In response to OAP's request, the SAB Staff Office is forming an expert panel under the auspices of the SAB to conduct this review. The SAB Staff Office requests nominations of recognized experts with specific experience and knowledge in one or more of the following areas:

• Forestry, agriculture, and land-use change, specifically the effects of land management practices on the terrestrial biosphere.

• Inventory, measurement and carbon accounting methodologies for national greenhouse gas inventories, or other relevant emissions and sequestration quantification guidelines in use.

• Land use economics, ecological relationships between land use and climate change and/or estimates of biomass supply and demand.

• Environmental science and climate change, particularly with a multi-disciplinary perspective.

• Engineering, particularly with respect to the design and operation of solid-fuel-fired boilers and related air pollution control systems for the power and industrial sectors, including pulp and paper applications.

• Design and implementation of regulatory programs at local, state and federal scales, with specific reference to developing and/or implementing monitoring and accounting approaches for agriculture, land use, land-use change and forestry.

How To Submit Nominations: Any interested person or organization may nominate qualified individuals to be considered for appointment on this SAB Panel. Candidates may also nominate themselves. Nominations should be submitted in electronic format (which is preferred over hard copy) following the instructions for “Nominating Experts to Advisory Panels and Ad Hoc Committees Being Formed” provided on the SAB Web site at http://www.epa.gov/sab. The form can be accessed through the “Nomination of Experts” link on the blue navigational bar on the SAB Web site at http://www.epa.gov/sab. To receive full consideration, nominations should include all of the information requested.

EPA's SAB Staff Office requests contact information about: the person making the nomination; contact information about the nominee; the disciplinary and specific areas of expertise of the nominee; the nominee's curriculum vita; sources of recent grant and/or contract support; and a biographical sketch of the nominee indicating current position, educational background, research activities, and recent service on other national advisory committees or national professional organizations. The deadline for submitting nominations is May 18, 2011.

Persons having questions about the nomination procedures, or who are unable to submit nominations through the SAB Web site, should contact Dr. Holly Stallworth, DFO, at the contact information provided above in this notice. Non-electronic submissions must follow the same format and contain the same information as the electronic.

The SAB Staff Office will acknowledge receipt of the nomination and inform nominees of the panel for which they have been nominated. From the nominees identified by respondents to this Federal Register notice (termed the “Widecast”) and other sources, the SAB Staff Office will develop a smaller subset (known as the “Short List”) for more detailed consideration. The Short List will be posted on the SAB Web site at http://www.epa.gov/sab and will include, for each candidate, the nominee's name and biosketch. Public comments on the Short List will be accepted for 21 calendar days. During this comment period, the public will be requested to provide information, analysis, or other documentation on nominees that the SAB Staff Office should consider in evaluating candidates for the Panel.

For the SAB, a balanced panel is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently concerning the background of each candidate (e.g., financial disclosure information and computer searches to evaluate a nominee's prior involvement with the topic under review). Specific criteria to be used in evaluation of an individual Panel member include:

(a) Scientific and/or technical expertise, knowledge, and experience (primary factors); (b) absence of financial conflicts of interest; (c) scientific credibility and impartiality; (d) availability and willingness to serve and (e) ability to work constructively and effectively in committees.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. Ethics information, including EPA Form 3110-48, is available on the SAB Web site at http://yosemite.epa.gov/sab/sabproduct.nsf/Web/ethics?OpenDocument.

Dated: April 20, 2011.
Anthony F. Maciorowski,
Deputy Director, EPA Science Advisory Board Staff Office.

[FR Doc. 2011-10180 Filed 4-26-11; 8:45 am]

BILLING CODE 6560-50-P